ENVIRONMENTAL PROTECTION AGENCY

[FRL-7659-6]

Meeting of the Local Government Advisory Committee

AGENCY: Environmental Protection Agency (EPA).

ACTION: Notice.

SUMMARY: The Local Government Advisory Committee (LGAC) will meet on May 18-20, 2004, in Kansas City, MO. The Committee will be discussing issues concerning the relationship between Local Governments and the U.S. Environmental Protection Agency. The focus of the meeting will be the orientation of new members to the Committee, the development of Committee Work Plans and briefings on current environmental issues. During the meeting decisions will be made establishing Subcommittee and Workgroup organizations.

The Committee will hear comments from the public between 10 a.m.-10:15 a.m. on May 19, 2004. Each individual or organization wishing to address the LGAC meeting will be allowed a maximum of five minutes to present their point of view. Please contact the Designated Federal Officer (DFO) at the number listed below to schedule agenda time. Time will be allotted on a first come, first served basis, and the total period for comments may be extended, if the number of requests for appearances required it.

These are open meetings and all interested persons are invited to attend. LGAC meeting minutes and Subcommittee summary notes will be available after the meetings and can be obtained by written request from the DFO. Members of the public are requested to call the DFO at the number listed below if planning to attend so that arrangements can be made to comfortably accommodate attendees as much as possible. Seating will be on a first come, first served basis.

DATES: The Local Government Advisory Committee plenary session will begin at 8:30 a.m. Tuesday, May 18 and conclude at 12 p.m. Thursday, May 20.

ADDRESSES: The meetings will be held in Kansas City, MO at the Four Points by Sheraton Kansas City, located at One East 45th Street in the Ballroom A.

Additional information can be obtained by writing the DFO at 1200 Pennsylvania Avenue, NW (1301A), Washington, DC 20460.

FOR FURTHER INFORMATION CONTACT: The DFO for the Local Government Advisory Committee (LGAC) is Pamela Luttner. She is the point of contact for information concerning any Committee matters and can be reached by calling (202) 564-3107.

Information on Services for the Handicapped: For information on facilities or services for the handicapped or to request special assistance at the meetings, contact the Designated Federal Officer at (202) 564-3107 as soon as possible.

Dated: April 29, 2004.
Pamela Luttner,
Designated Federal Officer, Local Government Advisory Committee.

[FR Doc. 04-10649 Filed 5-10-04; 8:45 am]

BILLING CODE 6560-50-P